DEPARTMENT OF DEFENSE

Department of the Navy

Notice of Intent To Terminate the Draft Supplemental Environmental Impact Statement for the Introduction of F/A-18E/F (Super Hornet) Aircraft to the East Coast of the United States (Construction and Operation of an Outlying Landing Field); To Prepare an Environmental Impact Statement for Construction and Operation of an Outlying Landing Field To Support Carrier Air Wing Aircraft at Naval Air Station Oceana and Naval Station Norfolk, VA; and To Announce Public Scoping Meetings

AGENCY: Department of the Navy, DoD.

ACTION: Notice.

SUMMARY: In a Notice of Intent published on June 24, 2005 (70 Federal Register [FR] 36566), the Department of the Navy announced its intent to prepare a Supplemental Environmental Impact Statement (SEIS) to provide additional analysis of the environmental consequences associated with the construction and operation of an Outlying Landing Field (OLF) needed to support operations of Super Hornet squadrons stationed at Naval Air Station (NAS) Oceana, Virginia, and Marine Corps Air Station (MCAS) Cherry Point, North Carolina. The U.S. Environmental Protection Agency (EPA) published a Notice of Availability (NOA) of the Draft SEIS on February 23, 2007 (72 FR 8155). Pursuant to section (102)(2)(c) of the National Environmental Policy Act (NEPA) of 1969 and the regulations implemented by the Council on Environmental Quality (40 CFR Parts 1500-1508), the Navy announces its intent to terminate the Draft SEIS for the Introduction of F/A-18E/F (Super Hornet) Aircraft to the East Coast of the United States (Construction and Operation of an Outlying Landing Field) and prepare an EIS to evaluate potential environmental consequences of the construction and operation of an OLF at new alternative sites to support Field Carrier Landing Practice (FCLP) training requirements for carrier-based fixed-wing aircraft stationed at and transient to NAS Oceana and Naval Station (NS) Norfolk Chambers Field, Virginia. The five new alternative OLF sites identified to date are: (1) Cabin Point Site, located in Surry, Prince George, and Sussex counties, Virginia; (2) Dory Site, located in Southampton and Sussex counties, Virginia; (3) Mason Site, located in Sussex and Southampton counties, Virginia; (4) Sandbanks Site, located in Gates and Hertford counties, North Carolina; and (5) Hale's Lake Site, located in Camden and Currituck counties, North Carolina. These five site alternatives were identified by applying operational, environmental and population criteria to a list of 13 new sites provided by the State of North Carolina and the Commonwealth of Virginia, as well as on the five sites examined in the Draft SEIS.

Dates and Addresses: The Navy is initiating a scoping process to identify community concerns and local issues that will be addressed in the EIS. Federal, state, and local elected officials and agencies and interested persons are encouraged to provide comments to the Navy to identify environmental concerns that should be addressed in the EIS. To be most helpful, scoping comments should clearly describe the specific issues or topics the EIS should address.

Public scoping meetings, using an Open House format, will be held to receive written comments or concerns that should be addressed in the EIS. Public scoping meetings will be as follows:

1. Currituck County, North Carolina. North Carolina Cooperative Extension, Currituck County Center, 120 Community Way, Barco, NC 27917 on April 28, 2008, 4 p.m. to 9 p.m.;

2. Prince George County, Virginia. J.E.J Moore Middle School, 11455 Prince George Drive, Disputanta, VA 23842 on April 29, 2008, 4 p.m. to 9 p.m.;

3. Sussex County, Virginia. Sussex Central High School, 21394 Sussex Drive, Sussex, VA 23884 on April 30, 2008, 4 p.m. to 9 p.m.;

4. Southampton County, Virginia. Southampton High School, 23350 Southampton Parkway, Courtland, VA 23837 on May 1, 2008, 4 p.m. to 9 p.m.;

5. Gates County, North Carolina. Gates County High School, 088 U.S. Highway 158 West, Gatesville, NC 27938 on May 2, 2008, 4 p.m. to 9 p.m.;

6. Camden County, North Carolina. Camden County High School, 103 U.S. Highway 158 West, Camden, NC 27921 on May 5, 2008, 4 p.m. to 9 p.m.; and

7. Surry County, Virginia. Surry Central High School, 1675 Hollybush Road, Dendron, VA 23839 on May 7, 2008, 4 p.m. to 9 p.m.

The dates, times, and locations of public scoping meetings are also available at (http://www.olfeis.com), and will be provided to local and regional media serving localities in the vicinity of proposed OLF sites.

Comments can be made in the following ways: (1) Written statements submitted to Navy representatives at the public scoping open houses; (2) written statements mailed to Commander, Naval Facilities Engineering Command Atlantic, 6506 Hampton Boulevard, Norfolk, Virginia 23508, Attn: Code EV OLF Project Manager; and (3) written statements submitted via the Web site at http://www.OLFEIS.com. All written comments must be postmarked by June 7, 2008.

SUPPLEMENTARY INFORMATION: The Navy proposes to construct an OLF that will support the FCLP operations of carrier-based fixed-wing aircraft squadrons stationed at and transient to NAS Oceana, Virginia Beach, Virginia (F/A-18C Hornet and F/A-18E/F Super Hornet squadrons and Fleet Replacement Squadrons (FRS)), and NS Norfolk Chambers Field, Norfolk, Virginia (E-2C Hawkeye, C-2A Greyhound, and E-2C/C-2A FRS). While NALF Fentress will continue providing necessary support for FCLP and other training requirements, this landing field alone cannot fully support training requirements of home-based and transient aircraft from NAS Oceana and NS Norfolk Chambers Field. Training requirements for aircraft based at these airfields can exceed NALF Fentress capacity up to 63% of the time during summertime when hours of darkness are limited. Capacity problems are further exacerbated when operational demands require surging additional carrier strike groups. A new OLF is required to provide year-round capacity to support FCLP training requirements under the Fleet Response Plan, provide operational flexibility needed to respond to emergent national defense requirements, and FCLP training consistent with at-sea operating conditions.

Facilities at the OLF would include an 8,000-foot runway, aircraft traffic control tower, and other support buildings. The Navy also proposes to establish Class D airspace around the OLF. Property and property interests for construction of the facilities, airfield safety zones, and projected high-noise zones would need to be acquired through purchase, lease, or acquisition of restrictive use or conservation easements.

The EIS will address environmental consequences associated with construction of the airfield, associated infrastructure and support facilities, and aircraft operations. In addition, the EIS will assess socioeconomic consequences associated with acquisition of property and property interests for the OLF and any relocation of residences within the proposed airfield safety and projected high-noise zones.

The Navy has worked with the leadership in the State of North Carolina and Commonwealth of Virginia to identify a range of reasonable site location alternatives for the OLF. For purposes of analysis, an estimated 25,000 to 30,000-acre area is being considered for each site location alternative. Additional alternative site locations may be identified during the scoping process. The five site location alternatives identified to date are: (1) Cabin Point Site, located in Surry, Prince George, and Sussex counties, Virginia; (2) Dory Site, located in Southampton and Sussex counties, Virginia; (3) Mason Site, located in Sussex and Southampton counties, Virginia; (4) Sandbanks Site, located in Gates and Hertford counties, North Carolina; and (5) Hale's Lake Site, located in Camden and Currituck counties, North Carolina.

The Navy has and will continue to work with the leadership from the State of North Carolina and the Commonwealth of Virginia as well as local communities to explore all possible economic benefits to the community to offset the potential impacts from the OLF. During the scoping process, the Navy will encourage and solicit input on other potential economic benefit proposals.

The Navy intends to analyze potential environmental consequences of the construction and operation of the OLF on the natural environment, including, but not limited to, air quality, plant and animal habitats, and water resources such as streams and wetlands. It will also evaluate potential consequences to the built environment, including land use patterns, transportation, housing, and regional economy. Further, the Navy will prepare analyses of projected operations on existing airspace and of aircraft noise exposure levels on the ambient noise environment.

FOR FURTHER INFORMATION CONTACT: Commander, Naval Facilities Engineering Command Atlantic, 6506 Hampton Boulevard, Norfolk, VA 23508, Attn: Code EV OLF Project Manager.

Dated: April 4, 2008.
T. M. Cruz,
Lieutenant, Judge Advocate General's Corps, U.S. Navy, Federal Register Liaison Officer.

[FR Doc. E8-7463 Filed 4-8-08; 8:45 am]

BILLING CODE 3810-FF-P